DEPARTMENT OF COMMERCE

National Institute of Standards and Technology

Proposed Voluntary Product Standard PS 1-22, Structural Plywood

AGENCY: National Institute of Standards and Technology, Commerce.

ACTION: Notice of availability; request for comments.

SUMMARY: The National Institute of Standards and Technology (NIST) is distributing for public comment a proposed revision of Voluntary Product Standard PS 1-22, Structural Plywood. The revisions to the standard were prepared by the Standard Review Committee and approved by the PS 1 Standing Committee. PS 1-22 Structural Plywood establishes requirements for the principal types and grades of structural plywood and provides a basis for common understanding among producers, distributors, and users of the product. Interested parties are invited to review the proposed standard and submit comments to NIST.

DATES: Written comments regarding the proposed revision, PS 1-22 Structural Plywood, should be submitted to the Standards Coordination Office, NIST, no later than September 25, 2023. Written comments should be submitted according to the instructions in the ADDRESSES section below. Submissions received after that date may not be considered.

ADDRESSES: An electronic copy (an Adobe Acrobat File) of the proposed standard, PS 1-22, Structural Plywood, can be obtained at the following website https://www.nist.gov/standardsgov/voluntary-product-standards-program. This site also includes an electronic copy of PS 1-19 (the existing standard) and a summary of significant changes. Written comments on the proposed revision should be submitted to Nathalie Rioux, Standards Coordination Office, NIST, 100 Bureau Drive, Stop 2100, Gaithersburg, MD 20899-2100. Electronic comments may be submitted to nrioux@nist.gov.

Instructions: Attachments will be accepted in plain text, Microsoft Word, or Adobe PDF formats. Comments containing references, studies, research, and other empirical data that are not widely published should include copies or electronic links of the referenced materials.

All submissions, including attachments and other supporting materials, will become part of the public record and subject to public disclosure. All comments responding to this document will be a matter of public record. Relevant comments will generally be available during and after the comment period closes on NIST's website at https://www.nist.gov/standardsgov/voluntary-product-standards-program. NIST will not accept comments accompanied by a request that part or all of the material be treated confidentially because of its business proprietary nature or for any other reason. Therefore, do not submit confidential business information or otherwise sensitive, protected, or personal information, such as account numbers, Social Security numbers, or names of other individuals.

FOR FURTHER INFORMATION CONTACT: Nathalie Rioux, Standards Coordination Office, National Institute of Standards and Technology, telephone: (240) 751-6225; email: nrioux@nist.gov.

SUPPLEMENTARY INFORMATION: Proposed Voluntary Product Standard PS 1-22 Structural Plywood establishes requirements, for those who choose to adhere to the standard, for the principal types and grades of structural plywood. This standard covers the wood species, veneer grading, adhesive bonds, panel construction and workmanship, dimensions and tolerances, marking, moisture content, and packing of plywood intended for construction and industrial uses.

The proposed revision of the standard, PS 1-22, Structural Plywood, has been developed and is being processed in accordance with Department of Commerce provisions in Part 10, Title 15, of the Code of Federal Regulations, Procedures for the Development of Voluntary Product Standards, as amended (published June 20, 1986). The Standing Committee for PS 1-22 is responsible for maintaining, revising, and interpreting the standard and is comprised of producers, distributors, users, and others with an interest in the standard.

After reviewing the standard, the Committee determined that updates were needed to reflect current industry practices. The Committee held meetings to review the standard and make needed changes.

The full Committee of 18 members voted on the revision, and it was approved by 94% of the Committee Members. The Committee submitted a report to NIST with the voting results and the draft revised standard. NIST has determined that the revised standard should be issued for public comment.

Proposed Voluntary Product Standard PS 1-22 Structural Plywood includes the following revisions:

1. Updated definitions to address Critical Section, Sound Knot, and Tight knot.

2. For species classified by testing Section 5.2.4 clarified that species listed in Table 1 but grown in a different geographic region shall be qualified for use by performance testing.

3. Clarified the requirements under Section 5.7.1 Exposure 1 and 5.7.2 Exterior.

4. Added calculations for planar shear strength Section 6.2.4 and shear-through-the-thickness strength Section 6.2.5.

5. Added Categories 5/16 and 11/16 to Table 10, Table D1, and Table D2.

6. Updated Section 7 Marking and Certification. This includes adding a Section on Accredited Certification Agency; revised Qualified Inspection and Testing Agency Section and added Section on Accredited Inspection Agency and Section on Accredited Testing Laboratory; added a Subsection on Subcontracting.

7. Added Section 8 on Quality Assurance Requirements which included adding the following subsections Manufacturing Quality Program, Inspection and Test Program, Sampling and Corrective Action.

The Standing Committee for PS 1-22 and NIST will revise the standard accordingly.

Alicia Chambers,
NIST Executive Secretariat.

[FR Doc. 2023-18257 Filed 8-23-23; 8:45 am]

BILLING CODE 3510-13-P